DEPARTMENT OF TRANSPORTATION

Federal Aviation Administration

14 CFR Part 39

[Docket No. FAA-2005-23251; Directorate Identifier 2002-NM-20-AD; Amendment 39-14413; AD 2005-25-20]

RIN 2120-AA64

Airworthiness Directives; Airbus Model A330-300, A340-200, and A340-300 Series Airplanes

AGENCY: Federal Aviation Administration (FAA), Department of Transportation (DOT).

ACTION: Final rule; request for comments.

SUMMARY: The FAA is superseding an existing airworthiness directive (AD), which applies to certain Airbus Model A330-300, A340-200, and 340-300 series airplanes. The existing AD requires repetitive inspections to detect cracking of the fuselage skin in the area of the VHF2 antenna, and repair if necessary. The existing AD also provides for optional terminating action for the repetitive inspections. This new AD requires accomplishment of the previously optional terminating action, and revises the applicability by removing certain airplanes. This AD is prompted by the need to change the applicability of the existing AD and to mandate the formerly optional terminating action. We are issuing this AD to prevent cracking of the fuselage skin in the area of the VHF2 antenna, which could result in depressurization of the airplane.

DATES: Effective December 29, 2005.

The incorporation by reference of certain publications listed in the regulations is approved by the Director of the Federal Register as of December 29, 2005.

The incorporation by reference of certain other publications, as listed in the regulations, was approved previously by the Director of the Federal Register as of April 12, 2000 (65 FR 12075, March 8, 2000).

We must receive comments on this AD by February 13, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Airbus, 1 Rond Point Maurice Bellonte, 31707 Blagnac Cedex, France. You can examine this information at the National Archives and Records Administration (NARA). For information on the availability of this material at NARA, call (202) 741-6030, or go to http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC. This docket number is FAA-2005-23251; the directorate identifier for this docket is 2002-NM-20-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: On February 29, 2000, the FAA issued AD 2000-05-04, amendment 39-11613 (65 FR 12075, March 8, 2000). That AD applies to certain Airbus Model A330 and A340 series airplanes and requires repetitive inspections to detect cracking of the fuselage skin in the area of the VHF2 antenna, and repair if necessary. That AD also provides for optional terminating action for the repetitive inspections. That action was prompted by issuance of mandatory continuing airworthiness information by the French civil aviation authority. We issued that AD to detect and correct such cracking, which could result in depressurization of the airplane.

Actions Since Issuance of Previous Rule

Since we issued AD 2000-05-04, the Direction Générale de l'Aviation Civile (DGAC), which is the airworthiness authority for France, has revised the parallel French airworthiness directives to exclude airplanes that have been modified by Airbus Modification 46025, 46849, or 46900; and to mandate the previously optional terminating action.

Explanation of Relevant New Service Information

Airbus has issued the following service bulletins:

Service Information
Airbus Service Bulletin— | Describes procedures for repetitive detailed inspections of— | Which could be eliminated by the modification specified in—: Airbus Service Bulletin— | Which could be eliminated by the modification specified in—: Revision— | Which could be eliminated by the modification specified in—: Dated—
A330-53-3094, Revision 03, dated February 22, 2001; and Revision 04, dated July 23, 2001 | Model A330-300 series airplanes | A330-53-3097 | 02 | November 21, 2000.
A340-53-4105, Revision 03, dated February 22, 2001, and Revision 04, dated July 23, 2001 | Model A340 series airplanes | A340-53-4108 | 02 | December 6, 2000.

The revised service bulletins for the terminating modification are essentially the same: They remove certain life limits, but add no new procedures. The DGAC classified Service Bulletins A330-53-3097 and A340-53-4108 as mandatory and issued French airworthiness directives 2001-041(B) and 2001-040(B), both dated January 24, 2001, to ensure the continued airworthiness of these airplanes in France.

Airbus has also issued Service Bulletins A330-53-3112 and A340-53-4124, both dated February 15, 2001, which describe procedures for relocating the VHF2 antenna between stringer 51 and stringer 52, away from the outlet air flow of the air conditioning packs. These service bulletins provide for alternative procedures to those specified in Service Bulletins A330-53-3097 and A340-53-4108 to eliminate the need for the repetitive inspections. The DGAC has approved Service Bulletins A330-53-3112 and A340-53-4124 and considers them optional terminating action for the repetitive inspections.

FAA's Determination and Requirements of This AD

These airplane models are manufactured in France and are type certificated for operation in the United States under the provisions of section 21.29 of the Federal Aviation Regulations (14 CFR 21.29) and the applicable bilateral airworthiness agreement. According to this bilateral airworthiness agreement, the DGAC has kept the FAA informed of the situation described above. We have examined the DGAC's findings, evaluated all pertinent information, and determined that we need to issue an AD for products of this type design that are certificated for operation in the United States.

For this reason, we are issuing this AD to supersede AD 2000-05-04. This AD retains the requirements of the existing AD, requires accomplishment of the previously optional terminating action, and adds an alternative terminating action. This AD removes certain airplanes from the applicability of the existing AD. The actions are required to be done in accordance with the service bulletins described previously, except as described below.

Additional Changes to AD

We have made the following additional changes to the AD:

1. We revised the applicability in this AD by updating the service bulletin references to match the applicability of the corresponding French airworthiness directives.

2. The FAA has changed all references to a “detailed visual inspection” in the existing AD to “detailed inspection” in this new AD. Note 1 in this AD defines that inspection.

3. We have reviewed the figures we have used over the past several years to calculate AD costs to operators. To account for various inflationary costs in the airline industry, we find it necessary to increase the labor rate used in these calculations from $60 per work hour to $65 per work hour. The cost impact information, below, reflects this increase in the specified hourly labor rate.

4. Since we issued AD 2000-05-04, the type certificate data sheet for affected airplanes has been updated. We have revised the applicability of this AD accordingly.

Differences Between AD and Service Bulletins

The revised service bulletins provide repair procedures for cracks up to 14.17 inches. However, no data have been presented that would justify the acceptability of the increased crack length. This AD requires that operators contact the FAA or DGAC for repair instructions of cracks exceeding 9.45 inches.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Applicable Airbus Service Bulletin | Work hours | Hourly labor rate (dollars) | Parts cost (dollars) | Cost per airplane (dollars)
Inspection | A330-53-3094 or A340-53-4105 | 6 | 65 | None required | 390, per inspection cycle.
Fuselage skin reinforcement | A330-53-3097 or A340-53-4108 | 107 | 65 | 0 | 6,955.
Antenna relocation | A330-53-3112 or A340-53-4124 | 109 | 65 | 2,850 | 9,935.

FAA's Determination of the Effective Date

No airplane affected by this AD is currently on the U.S. Register. Therefore, providing notice and opportunity for public comment is unnecessary before this AD is issued, and this AD may be made effective in less than 30 days after it is published in the Federal Register.

Comments Invited

Although this is a final rule that was not preceded by notice and an opportunity for public comment, we invite you to submit any relevant written data, views, or arguments regarding this AD. Send your comments to an address listed under ADDRESSES. Include “Docket No. FAA-2005-23251; Directorate Identifier 2002-NM-20-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11613 (65 FR 12075, March 8, 2000) and adding the following new airworthiness directive (AD):

2005-25-20 Airbus: Amendment 39-14413. Docket No. FAA-2005-23251; Directorate Identifier 2002-NM-20-AD.

Effective Date

(a) This airworthiness directive (AD) becomes effective December 29, 2005.

Affected ADs

(b) This AD supersedes AD 2000-05-04.

Applicability

(c) This AD applies to the airplanes, certificated in any category, listed in Table 1 of this AD.

Table 1.—Applicability
| Except those modified in accordance with any applicable service information listed below:
Model— | Airbus Service Bulletin— |  | Or Airbus production modification—
Airbus Model A330-301, -321, -322, -323, -341, -342, and -343 airplanes | A330-53-3097, Revision 02, dated November 21, 2000 (Airbus Modification 46025) | A330-53-3112, dated February 15, 2001 (Airbus Modification 46849) | 46900.
Airbus Model A340-211, -212, and -213 airplanes, and Airbus Model A340-311, -312, and -313 airplanes | A340-53-4108, Revision 02, dated December 6, 2000 (Airbus Modification 46025) | A340-53-4124, dated February 15, 2001 (Airbus Modification 46849) | 46900.

Unsafe Condition

(d) This AD was prompted by the need to change the applicability of the existing AD and to mandate the formerly optional terminating action. We are issuing this AD to prevent cracking of the fuselage skin in the area of the VHF2 antenna, which could result in depressurization of the airplane.

Compliance

(e) You are responsible for having the actions required by this AD performed within the compliance times specified, unless the actions have already been done.

Restatement of Requirements of AD 2000-05-04

Detailed Inspection

(f) At the latest of the times specified in paragraphs (f)(1), (f)(2), (f)(3), and (f)(4) of this AD, as applicable: Perform a detailed inspection (without removal of the VHF2 antenna) of the fuselage skin aft of frame 54, between the airplane centerline and stringer 56R in the area of the VHF2 antenna to detect cracks, in accordance with Airbus Service Bulletin A330-53-3094, Revision 02, dated May 28, 1998, Revision 03, dated February 22, 2001, or Revision 04, dated July 23, 2001 (for Model A330 series airplanes); or Airbus Service Bulletin A340-53-4105, Revision 02, dated May 25, 1998, Revision 03, dated February 22, 2001, or Revision 04, dated July 23, 2001 (for Model A340 series airplanes). Thereafter, if no cracks are detected, repeat the detailed inspection every 36 flight hours until accomplishment of the high frequency eddy current (HFEC) inspection required by paragraph (g) of this AD.

(1) Prior to the accumulation of 900 total flight hours.

(2) Within 1,250 flight hours since accomplishment of the interim repair specified by paragraph C.(4) of the Accomplishment Instructions of the applicable service bulletin, if the interim repair has been accomplished prior to April 12, 2000 (the effective date of AD 2000-05-04).

(3) Within 300 flight hours since the most recent HFEC inspection accomplished in accordance with the applicable service bulletin, if the most recent HFEC inspection has been accomplished prior to April 12, 2000.

(4) Within 36 flight hours after April 12, 2000.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

High Frequency Eddy Current Inspection

(g) Perform an HFEC inspection to detect cracks of the fuselage skin aft of frame 54, between the airplane centerline and stringer 56R in the area of the VHF2 antenna, in accordance with Airbus Service Bulletin A330-53-3094, Revision 02, dated May 28, 1998, Revision 03, dated February 22, 2001, or Revision 04, dated July 23, 2001; or Service Bulletin A340-53-4105, Revision 02, dated May 25, 1998, Revision 03, dated February 22, 2001, or Revision 04, dated July 23, 2001; at the applicable time specified by paragraph (g)(1) or (g)(2) of this AD. Accomplishment of this inspection terminates the requirements of paragraph (f) of this AD.

(1) For airplanes on which the interim repair specified by paragraph C.(4) of the Accomplishment Instructions of the applicable service bulletin has not been accomplished before April 12, 2000: Prior to the accumulation of 900 total flight hours on the airplane, or within 500 flight hours after April 12, 2000, whichever occurs later. Thereafter, accomplish the follow-on actions of paragraph (h) or (i) of this AD, as applicable.

(2) For airplanes on which the interim repair specified by paragraph C.(4) of the Accomplishment Instructions of the applicable service bulletin has been accomplished before April 12, 2000: Within 1,250 flight hours after accomplishment of the interim repair, or within 500 flight hours after April 12, 2000, whichever occurs later.

Repetitive Inspections

(h) If no crack is detected during the HFEC inspection required by paragraph (g) of this AD, accomplish the repetitive inspections required by paragraph (h)(1) or (h)(2) of this AD, as applicable, until the terminating action required by paragraph (k) of this AD has been done.

(1) For airplanes on which the interim repair specified by paragraph C.(4) of the Accomplishment Instructions of Airbus Service Bulletin A330-53-3094, Revision 02, dated May 28, 1998, Revision 03, dated February 22, 2001, or Revision 04, dated July 23, 2001; or Service Bulletin A340-53-4105, Revision 02, dated May 25, 1998, Revision 03, dated February 22, 2001, or Revision 04, dated July 23, 2001; has not been accomplished before April 12, 2000: Accomplish the actions specified by paragraphs (h)(1)(i) and (h)(1)(ii) of this AD.

(i) Repeat the HFEC inspection specified by paragraph (g) at intervals not to exceed 500 flight hours.

(ii) Within 300 flight hours after each HFEC inspection required by this AD: Perform a detailed inspection (without removal of the VHF2 antenna) of the fuselage skin aft of frame 54, between the airplane centerline and stringer 56R in the area of the VHF2 antenna to detect cracks, in accordance with the applicable service bulletin. Thereafter, if no cracks are detected, repeat the detailed inspection at intervals not to exceed 36 flight hours until accomplishment of the next HFEC inspection required by paragraph (h)(1)(i) of this AD.

(2) For airplanes on which the interim repair specified by paragraph C.(4) of the Accomplishment Instructions of the applicable service bulletin has been accomplished before April 12, 2000: Repeat the HFEC inspection specified by paragraph (g) of this AD at intervals not to exceed 1,250 flight hours.

Corrective Actions

(i) If any crack is detected during any inspection required by paragraph (k), (l), or (m) of this AD, and the interim repair specified by paragraph C.(4) of the Accomplishment Instructions of Airbus Service Bulletin A330-53-3094, Revision 02, dated May 28, 1998, Revision 03, dated February 22, 2001, or Revision 04, dated July 23, 2001; or Service Bulletin A340-53-4105, Revision 02, dated May 25, 1998, Revision 03, dated February 22, 2001, or Revision 04, dated July 23, 2001; has not been accomplished: Prior to further flight, accomplish the actions specified by paragraph (i)(1) or (i)(2) of this AD, as applicable.

(1) If only one crack is detected and that crack is 9.45 inches or less, and is within the limits specified by the applicable service bulletin: Install the interim repair specified in paragraph C.(4) of the Accomplishment Instructions of the applicable service bulletin. Thereafter, repeat the HFEC inspection specified by paragraph (g) of this AD at intervals not to exceed 1,250 flight hours, until the terminating action required by paragraph (k) of this AD has been done.

Note 2: The interim repair referenced by this AD consists of cutting out the cracked portion of the fuselage skin, and installing a filler plate in the skin cutout, two doublers, and shims, as described in paragraph C.(4) of the Accomplishment Instructions of Airbus Service Bulletin A330-53-3094, Revision 02, dated May 28, 1998, Revision 03, dated February 22, 2001, or Revision 04, dated July 23, 2001 (for Model A330 series airplanes); or Airbus Service Bulletin A340-53-4105, Revision 02, dated May 25, 1998, Revision 03, dated February 22, 2001, or Revision 04, dated July 23, 2001 (for Model A340 series airplanes).

Note 3: Accomplishment of the interim repair in accordance with paragraph 4.3 of Airbus Industrie All Operator Telex (AOT) 53-10, dated September 24, 1997, is acceptable for compliance with the requirements of paragraph (i)(1) of this AD.

(2) If any crack is detected that is longer than 9.45 inches, or is outside the limits specified by the service bulletin, or if more than one crack is detected: Repair in accordance with a method approved by the Manager, International Branch, ANM-116, Transport Airplane Directorate, FAA; or the Direction Générale de l'Aviation Civile (DGAC) (or its delegated agent).

(j) If any crack is detected during any inspection required by paragraph (f), (g), or (h) of this AD, and the interim repair specified by paragraph C.(4) of the Accomplishment Instructions of Airbus Service Bulletin A330-53-3094, Revision 02, dated May 28, 1998, Revision 03, dated February 22, 2001, or Revision 04, dated July 23, 2001; or Airbus Service Bulletin A340-53-4105, Revision 02, dated May 25, 1998, Revision 03, dated February 22, 2001, or Revision 04, dated July 23, 2001; has been accomplished: Prior to further flight, repair in accordance with a method approved by the Manager, International Branch, ANM-116; or the DGAC (or its delegated agent).

New Requirements of This AD

Terminating Action

(k) Within 18 months after the effective date of this AD: Do the actions specified in either paragraph (k)(1) or (k)(2). Accomplishment of either action terminates the repetitive inspections required by paragraphs (f), (g), (h) and (i)(1) of this AD.

(1) Reinforce the fuselage skin between FR54 and FR55 in the area of the VHF2 antenna, in accordance with the Accomplishment Instructions of Airbus Service Bulletin A330-53-3097, Revision 02, dated November 21, 2000 (for Model A330 series airplanes); or A340-53-4108, Revision 02, dated December 6, 2000 (for Model A340 series airplanes); as applicable.

(2) Relocate the VHF2 antenna between stringer 51 and stringer 52, in accordance with Airbus Service Bulletin A330-53-3112 (for Model A330 series airplanes) or A340-53-4124 (for Model A340 series airplanes), both dated February 15, 2001; as applicable.

(l) Work done before the effective date of this AD in accordance with an applicable source listed in Table 2 of this AD is acceptable for compliance with the corresponding requirements of paragraph (k) of this AD.

Table 2.—Credit for Prior Modification
Model | Service information | Revision | Date
A330-300 | Airbus Service Bulletin A330-53-3097 | Original | July 29, 1998.
A330-300, A340 | Airbus production Modification 46025 | (done in production)
A340 | Airbus Service Bulletin A340-53-4108 | Original | July 31, 1998.

Alternative Methods of Compliance

(m)(1) In accordance with 14 CFR 39.19, the Manager, International Branch, ANM-116, is authorized to approve alternative methods of compliance for this AD.

(2) Before using any AMOC approved in accordance with 14 CFR 39.19 on any airplane to which the AMOC applies, notify the appropriate principal inspector in the FAA Flight Standards Certificate Holding District Office.

Related Information

(n) The subject of this AD is addressed in French airworthiness directives 2001-040(B) and 2001-041(B), both dated January 24, 2001.

Material Incorporated by Reference

(o) Unless otherwise specified in this AD, the actions must be done in accordance with the service information listed in Table 3 of this AD, as applicable.

Table 3.—Material Incorporated by Reference
Airbus Service Bulletin | Revision level | Date
A330-53-3094 | 02 | May 28, 1998.
A330-53-3094 | 03 | February 22, 2001.
A330-53-3094 | 04 | July 23, 2001.
A330-53-3097 | 02 | November 21, 2000.
A330-53-3112 | Original | February 15, 2001.
A340-53-4105 | 02 | May 25, 1998.
A340-53-4105 | 03 | February 22, 2001.
A340-53-4105 | 04 | July 23, 2001.
A340-53-4108 | 02 | December 6, 2000.
A340-53-4124 | Original | February 15, 2001.

(1) The incorporation by reference of the service information listed in Table 4 of this AD is approved by the Director of the Federal Register in accordance with 5 U.S.C. 552(a) and 1 CFR part 51.

Table 4.—Material Newly Incorporated by Reference
Airbus Service Bulletin | Revision level | Date
A330-53-3094 | 03 | February 22, 2001.
A330-53-3094 | 04 | July 23, 2001.
A330-53-3097 | 02 | November 21, 2000.
A330-53-3112 | Original | February 15, 2001.
A340-53-4105 | 03 | February 22, 2001.
A340-53-4105 | 04 | July 23, 2001.
A340-53-4108 | 02 | December 6, 2000.
A340-53-4124 | Original | February 15, 2001.

(2) The incorporation by reference of the service information listed in Table 5 of this AD was approved previously by the Director of the Federal Register as of April 12, 2000 (65 FR 12075, March 8, 2000).

Table 5.—Material Previously Incorporated by Reference
Airbus Service Bulletin | Revision level | Date
A330-53-3094 | 02 | May 28, 1998.
A340-53-4105 | 02 | May 25, 1998.

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Issued in Renton, Washington, on December 2, 2005.
Kalene C. Yanamura,
Acting Manager, Transport Airplane Directorate, Aircraft Certification Service.

[FR Doc. 05-23901 Filed 12-13-05; 8:45 am]

BILLING CODE 4910-13-P